DEPARTMENT OF HOMELAND SECURITY

Coast Guard

33 CFR Part 100

[CGD07-03-041]

RIN 1625-AA08

Special Local Regulations; Miami Beach Super Boat Race, Miami Beach, FL

AGENCY: Coast Guard, DHS.

ACTION: Temporary final rule.

SUMMARY: The Coast Guard is establishing temporary special local regulations for the Miami Beach Super Boat Grand Prix powerboat race. This event will be in the Atlantic Ocean, off Miami Beach, Florida on April 27, 2003. This regulation is necessary to provide for the safety of life on navigable waters during the event.

DATES: 33 CFR 100.730 is suspended from April 1, 2003 until April 30, 2003. Temporary § 100.35T-07-041 is effective from 10 a.m. until 4 p.m. on April 27, 2003.

ADDRESSES: Documents indicated in the preamble are available for inspection or copying at Coast Guard Group Miami, 100 MacArthur Causeway, Miami Beach, Florida, between the hours of 7:30 a.m. and 3 p.m., Monday through Friday except Federal holidays.

FOR FURTHER INFORMATION CONTACT: BM1 D. Vaughn, Coast Guard Group Miami, Florida at (305) 535-4317.

SUPPLEMENTARY INFORMATION:

Regulatory Information

We did not publish a notice of proposed rulemaking (NPRM) for this regulation. Under 5 U.S.C. 553(b)(3)(B), the Coast Guard finds that good cause exists for not publishing an NPRM. Publishing an NPRM, which would incorporate a comment period before a final rule could be issued, would be contrary to public safety interests since immediate action is needed to minimize potential danger to the public associated with the large number of vessels expected for this event. Permanent special local regulations similar to this temporary rule have been in place for this event since 1998 effective on the third Sunday in April each year. However, this year the third Sunday in April is Easter Sunday. The race organizers are moving the race date this year to avoid a conflict with the holiday.

For the same reasons, under 5 U.S.C. 553, good cause exists for making this regulation effective in less than 30 days after publication in the Federal Register.

Background and Purpose

Super Boat International Productions Inc., is sponsoring a high-speed power boat race that will take place on April 27, 2003 in the Alantic Ocean off Miami Beach, Florida. Approximately 35 race boats, ranging in length from 24 to 50 feet, will participate in the event. There will also be approximately 200 spectator craft in the area. The race boats will be competing at high speeds with numerous spectator vessels on scene, requiring control over vessel traffic in the area.

Discussion of Rule

These regulations create two regulated areas offshore from Miami Beach for this event. The first regulated area surrounds the race course and non-participant vessels are prohibited from entering this area without authorization from the Coast Guard Patrol Commander. The second regulated area establishes a spectator craft viewing area where spectator vessels may enter to watch the race.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this rule to be so minimal that a full Regulatory Evaluation under the regulatory policies and procedures of DHS is unnecessary, because non-participant vessels are only prohibited from entering one of the regulated areas for 6 hours on the day of the event. Also, vessels should be able to transit around this one regulated area.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities, because non-participant vessels are only prohibited from entering one of the regulated areas for 6 hours on the day of the event. Also, vessels should be able to transit around this one regulated area.

Assistance for Small Entities

Under section 213(a) of the Small Business Regulatory Enforcement Fairness Act of 1996 (Public Law 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector, of $100,000,000 or more in any one year. Although this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order, because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded under figure 2-1, paragraph 34(h), of the Instruction, from further environmental documentation. Under figure 2-1, paragraph (34)(h), of the Instruction, an “Environmental Analysis Check List” and a “Categorical Exclusion Determination” are not required for this rule.

List of Subjects in 33 CFR Part 100

Marine safety, Navigation (water), Reporting and recordkeeping requirements, Waterways.

For reasons discussed in the preamble, the Coast Guard amends 33 CFR part 100 as follows:

PART 100—SAFETY OF LIFE ON NAVIGABLE WATERS

1. The authority citation for part 100 continues to read as follows:

Authority: 33 U.S.C. 1233, Department of Homeland Security Delegation No. 0170.

2. From April 1, 2003 until April 30, 2003, temporarily suspend 33 CFR 100.730

3. Add a new temporary § 100.35T-07-041 to read as follows:

§ 100.35T-07-041 Miami Beach Super Boat Race; Miami Beach, Florida.

(a) Regulated areas. (1) Race course. A regulated area is established by a line joining the following points:

Corner point 1: 25-46.30 N, 080-07.85 W

Corner point 2: 25-46.30 N, 080-06.82 W

Corner point 3: 25-51.30 N, 080-06.20 W

Corner point 4: 25-51.30 N, 080-07.18 W.

All coordinates reference Datum NAD: 83.

(2) Spectator area. A regulated area is established in the vicinity of the race course for spectator traffic and is defined by a line joining the following points:

Corner point 1: 25-51.30 N, 080-06.15 W

Corner point 2: 25-51.30 N, 080-05.85 W

Corner point 3: 25-46.30 N, 080-06.55 W

Corner point 4: 25-46.30 N, 080-06.77 W.

All coordinates reference Datum NAD: 83.

(b) Coast Guard Patrol Commander. The Coast Guard Patrol Commander is a commissioned, warrant, or petty officer of the Coast Guard who has been designated by Commander, Coast Guard Group Miami, Florida.

(c) Special local regulations. (1) Non-participant vessels are prohibited from entering the race course regulated area unless authorized by the Coast Guard Patrol Commander.

(2) When notified by the Coast Guard Patrol Commander, after the completion of scheduled races and the departure of participants from the race course regulated area, vessel traffic may resume normal operations. (3) At the discretion of the Coast Guard Patrol Commander, traffic may be permitted to resume normal operations between scheduled racing events.

(d) Effective date. This rule is effective from 10 a.m. to 4 p.m. on April 27, 2003.

Dated: April 10, 2003.
F.M. Rosa,
Captain, U.S. Coast Guard, Acting, Commander, Seventh Coast Guard District.

[FR Doc. 03-9647 Filed 4-17-03; 8:45 am]

BILLING CODE 4910-15-P